DEPARTMENT OF COMMERCE

National Oceanic and Atmospheric Administration

RIN 0648-XC264

Caribbean Fishery Management Council; Public Meeting

AGENCY: National Marine Fisheries Service (NMFS), National Oceanic and Atmospheric Administration (NOAA), Commerce.

ACTION: Notice of public meetings.

SUMMARY: The Caribbean Fishery Management Council's Scientific and Statistical Committee (SSC) will hold meetings.

DATES: The SSC meetings will be held on October 30th, 31st and November 1st, 2012.

ADDRESSES: The meetings will be held at the Verdanza Hotel, 8020 Tartak St., IslaVerde, Puerto Rico.

FOR FURTHER INFORMATION CONTACT: Caribbean Fishery Management Council, 268 Muñoz Rivera Avenue, Suite 1108, San Juan, Puerto Rico 00918-1920, telephone: (787) 766-5926.

SUPPLEMENTARY INFORMATION: The SSC will meet to discuss the items contained in the following agenda:

October 30, 2012

—Call to order

—Adoption of Agenda

—Presentations on:

a. SEFSC—Summary of Data for Species Units ACLs

Commercial Puerto Rico Data

Commercial St. Thomas Data

Commercial St. Croix Data

Recreational Puerto Rico Data

SEFSC—Summary TIP Data

b. SERO—Species Units Projected to Exceed ACLs by the end of Calendar Year 2012

c. USVI—Changes in Commercial Fisher Data Collection and Reporting in the USVI

Commercial St. Thomas Data

Commercial St. Croix Data

d. Puerto Rico—Changes in Commercial Fishery Data Collection and Reporting in Puerto Rico

e. Puerto Rico—Changes in Recreational Data Collection

f. Ancillary Data—Fishery Independent Reports

—Recommendations to CFMC Regarding the Variables Affecting ACLs and Suggested Course of Actions

October 31, 2012

—Recommendations to CFMC Regarding 5-year Priority Research Needs

November 1, 2012

—Recommendations to CFMC Regarding 5-year Priority Research Needs (Continuation)

—Queen Conch Listing Update

—Other Business

—Adjourn

The SSC will convene on October 30th, 31st and November 1st, 2012, from 9 a.m. until 5 p.m., to discuss several issues related to the catch limits (ACLs). At the 143rd CFMC, it was reported that some ACLs are expected to be overrun in the US Caribbean.

The final Rule triggers accountability measures (AMs) if an ACL has been exceeded based on a moving multi-year average of landings. If the ACL for a species or species group is exceeded, the fishing season for the affected species will be reduced. The AM will be triggered unless NMFS SEFSC, in consultation with the CFMC and its SSC determine the ACL was exceeded because of enhanced data collection and monitoring efforts instead of an increase in total catch of the species or species group.

The SSC was charged with the determination of whether the numbers provided are a result of better data gathering or “real” overrun of the ACLs.

The meetings are open to the public, and will be conducted in English. Fishers and other interested persons are invited to attend and participate with oral or written statements regarding agenda issues.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone (787) 766-5926, at least 5 days prior to the meeting date.

Dated: September 28, 2012.
Tracey L. Thompson,
Acting Deputy Director, Office of Sustainable Fisheries, National Marine Fisheries Service.

[FR Doc. 2012-24314 Filed 10-2-12; 8:45 am]

BILLING CODE 3510-22-P